DEPARTMENT OF HOMELAND SECURITY

Coast Guard

33 CFR Part 100

[Docket No. USCG-2015-0376]

RIN 1625-AA08

Special Local Regulations; Annual Events in the Captain of the Port Detroit Zone

AGENCY: Coast Guard, DHS.

ACTION: Notice of enforcement of regulation.

SUMMARY: The Coast Guard will enforce the safety zones for annual marine events in the Captain of the Port Detroit zone on the dates and times noted below. This action is necessary and intended to ensure safety of life on the navigable waters immediately prior to, during, and immediately after marine events. During the aforementioned period, the Coast Guard will enforce restrictions upon, and control movement of, vessels in a portion of the Captain of the Port Detroit zone.

DATES: The regulations in 33 CFR 100.921, 33 CFR 100.927, and 33 CFR 100.928 will be enforced on the dates and times noted below.

FOR FURTHER INFORMATION CONTACT: If you have questions on this notice, call or email LT Jennifer M. Disco, Waterways Branch Chief, Marine Safety Unit Toledo, 420 Madison Ave., Suite 700, Toledo, OH 43604; telephone (419) 418-6023; email Jennifer.M.Disco@uscg.mil.

SUPPLEMENTARY INFORMATION: The Coast Guard will enforce the special local regulations listed in 33 CFR 100.921, 33 CFR 100.927, and 33 CFR 100.928, Special Local Regulations; Annual Events in the Captain of the Port Detroit Zone, at the following times for the following events:

(1) Kelley's Island Swim, Lake Erie, Lakeside, OH. The special local regulation listed in 33 CFR 100.921 will be enforced from 7 a.m. until 11 a.m. on July 15, 2015. This special local regulation will encompass all U.S. navigable waters of Lake Erie, Lakeside, OH, contained by a line connecting the following points: two points on land at the Lakeside dock, 41°32′51.96″ N./082°45′3.15″ W. and 41°32′52.21″ N./082°45′2.19″ W., and two points on Kelley's Island at the Kelley's Island Dock, 41°35′24.59″ N./082°42′16.61″ W., and 41°35′24.44″ N./082°42′16.04″ W. (NAD 83).

(2) Dragon Boat Races, Maumee River; Toledo, OH. The special local regulation listed in 33 CFR 100.927 will be enforced from 6 a.m. to 6 p.m. on June 20, 2015. This special local regulation will encompass all U.S. navigable waters of the Maumee River, Toledo, OH, bound by a line extending from a point on land just north of the Cherry Street Bridge at position 41°39′5.27″ N.; 083°31′34.01″ W. straight across the river along the Cherry Street bridge to position 41°39′12.83″ N.; 083°31′42.58″ W. and a line extending from a point of land just south of International Park at position 41°38′46.62″ N.; 083°31′50.54″ W. straight across the river to the shore adjacent to position 41°38′47.37″ N.; 083°32′2.05″ W. (NAD 83).

(3) Frogtown Race Regatta, Toledo, OH. The special local regulation listed in 33 CFR 100.928 will be enforced from 5 a.m. to 7 p.m. on September 26, 2015. This special local regulation will encompass all navigable waters of the United States on the Maumee River, Toledo, OH, from the Norfolk and Southern Railway Bridge at River Mile 1.80 to the Anthony Wayne Bridge at River Mile 5.16.

Under the provisions of 33 CFR 100.921, 33 CFR 100.927, and 33 CFR 100.928, vessels transiting within the regulated area shall travel at a no-wake speed and remain vigilant for event participants and safety craft. Additionally, vessels shall yield right-of-way for event participants and event safety craft and shall follow directions given by the Coast Guard's on-scene representative or by event representatives during the event. The “on-scene representative” of the Captain of the Port Detroit is any Coast Guard commissioned, warrant, or petty officer who has been designated by the Captain of the Port Detroit to act on his behalf. The on-scene representative of the Captain of the Port Detroit will be aboard either a Coast Guard or Coast Guard Auxiliary vessel. The Captain of the Port, Sector Detroit or his designated on scene representative may be contacted via VHF Channel 16.

Dated: June 8, 2015.
Scott B. Lemasters,
Captain, U.S. Coast Guard, Captain of the Port Detroit.

[FR Doc. 2015-16530 Filed 7-2-15; 8:45 am]

BILLING CODE 9110-04-P